NUCLEAR REGULATORY COMMISSION

[Docket ID: NRC-2012-0022]

State-of-the-Art Reactor Consequence Analyses Reports

AGENCY: Nuclear Regulatory Commission.

ACTION: Draft NUREG; public meeting and request for comment.

SUMMARY: The U.S. Nuclear Regulatory Commission (NRC) is holding public meetings concerning the release of Draft NUREG-1935, “State-of-the-Art Reactor Consequence Analyses (SOARCA) Report,” for public comment. The purpose of Draft NUREG-1935 is to report a pilot study of best estimate analyses of the offsite radiological health consequences for potential severe reactor accidents for the Peach Bottom Atomic Power Station and the Surry Power Station.

To facilitate public review of this report, the following associated contractor reports are also now available to the public: NUREG/CR-7110, “SOARCA Project, Volume 1: Peach Bottom Integrated Analysis”; and NUREG/CR-7110, “SOARCA Project, Volume 2: Surry Integrated Analysis.” Additionally, NUREG/BR-0359, “Modeling Potential Reactor Accident Consequences,” a plain language public information brochure about the SOARCA project, is now available.

DATES: Submit comments on Draft NUREG-1935 by March 1, 2012. The first public meeting will be held on February 21, 2012, in Surry, VA; and the second meeting will be held on February 22, 2012, in Delta, PA.

ADDRESSES: Please include Docket ID NRC-2012-0022 in the subject line of your comments. For additional instructions on submitting comments and instructions on accessing documents related to this action, see “Submitting Comments and Accessing Information” in the SUPPLEMENTARY INFORMATION section of this document. You may submit comments by any one of the following methods:

• Federal Rulemaking Web site: Go to http://www.regulations.gov and search for documents filed under Docket ID NRC-2012-0022. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

FOR FURTHER INFORMATION CONTACT: Jonathan Barr, Division of Systems Analysis, Office of Nuclear Regulatory Research, U.S. Nuclear Regulatory Commission, Washington, DC 20555-0001. Telephone: (301) 251-7538; email: Jonathan.Barr@nrc.gov.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1 (800) 397-4209, (301) 415-4737, or by email to pdr.resource@nrc.gov. Draft NUREG-1935, Volume 1 of NUREG/CR-7110, Volume 2 of NUREG/CR-7110, and NUREG/BR-0359 are available in ADAMS under Accession Nos. ML120250406, ML120260675, ML120260681, and ML12026A470, respectively.

• Federal Rulemaking Web site: Public comments and supporting materials related to this document can be found at http://www.regulations.gov by searching on Docket ID NRC-2012-0022.

Discussion

The SOARCA project analyzed a select set of potential severe reactor accidents at the Surry Power Station near Surry, VA and the Peach Bottom Atomic Power Station near Lancaster, PA. The project, which began in 2007, combined up-to-date information about the plants' layout and operations with local population data and emergency preparedness plans. This information was then analyzed using state-of-the-art computer codes that incorporate decades of international research into severe reactor accidents.

Public Meetings

The first public meeting will be held on February 21, 2012, at 5 p.m. to 9 p.m., Surry Courthouse, General District Courtroom, 45 School Street, Surry, VA 23883. The second meeting will be held on February 22, 2012, at 5 p.m. to 9 p.m., Peach Bottom Inn, 6085 Delta Road, Delta, PA 17314. The SOARCA team will present the project's findings, answer questions, and take comments on the draft report. The meeting agendas will be published on the NRC's Public Meeting Schedule Web site, http://www.nrc.gov/public-involve/public-meetings/index.cfm, 10 days prior to the meeting dates. Any changes regarding the meetings will be available on the previously stated Web site.

Dated at Rockville, Maryland, this 26th day of January, 2012.
For the Nuclear Regulatory Commission.
Patricia Santiago,
Chief, Accident Analysis Branch, Division of Systems Analysis, Office of Nuclear Regulatory Research.

[FR Doc. 2012-2313 Filed 2-1-12; 8:45 am]

BILLING CODE 7590-01-P